DEPARTMENT OF LABOR

Employment and Training Administration

[TA-W-52,022, TA-W-52,022A, and TA-W-52,022B]

Nortel Networks Corporation, Optical Global Technical Assistance Center, Research Triangle Park, NC; Nortel Networks Corporation, Optical Global Technical Assistance Center, Pittsburgh, PA; Nortel Networks Corporation, Optical Global Technical Assistance Center, Centennial, CO; Notice of Revised Determination on Reconsideration

By application of August 15, 2003, a petitioner requested administrative reconsideration regarding the Department's Negative Determination Regarding Eligibility to Apply for Worker Adjustment Assistance, applicable to the workers of the subject firm.

The initial investigation resulted in a negative determination issued on July 22, 2003, based on the finding that the petitioning workers of this firm do not produce an article within the meaning of section 222 of the Trade Act of 1974. The denial notice was published in the Federal Register on August 14, 2003 (68 FR 48645).

In a review of the initial investigation, it was revealed that the work performed by the worker group did perform testing and product modification, and that subject firm workers produced an article as part of the finishing work performed on fiber optic backbone telecommunication networks. It was further revealed that employment declines occurred at all three facilities and that the company is now relying on a Canadian facility to serve the same customer base as that which is served by the three domestic facilities where the petitioners are employed.

Conclusion

After careful review of the additional facts obtained on reconsideration, I conclude that increased imports of articles like or directly competitive with those produced at Nortel Networks Corporation, Optical Global Technical Assistance Center (GTAC), Research Triangle Park, North Carolina (TA-W-52,022); Nortel Networks Corporation, Optical Global Technical Assistance Center, Pittsburgh, Pennsylvania (TA-W-52,022A); and Nortel Networks Corporation, Optical Global Technical Assistance Center, Centennial, Colorado (TA-W-52,022B), contributed importantly to the declines in sales or production and to the total or partial separation of workers at the subject firm. In accordance with the provisions of the Act, I make the following certification:

All workers of Nortel Networks Corporation, Optical Global Technical Assistance Center (GTAC), Research Triangle Park, North Carolina (TA-W-52,022); Nortel Networks Corporation, Optical Global Technical Assistance Center, Pittsburgh, Pennsylvania (TA-W-52,022A); and Nortel Networks Corporation, Optical Global Technical Assistance Center, Centennial, Colorado (TA-W-52,022B), who became totally or partially separated from employment on or after May 26, 2002 through two years from the date of this certification, are eligible to apply for adjustment assistance under section 223 of the Trade Act of 1974.

Signed in Washington, DC this 15th day of December 2003.
Elliott S. Kushner,
Certifying Officer, Division of Trade Adjustment Assistance.

[FR Doc. 03-31863 Filed 12-24-03; 8:45 am]

BILLING CODE 4510-30-P